DEPARTMENT OF AGRICULTURE

Food and Nutrition Service

Agency Information Collection: Proposed Collection; Comment Request; FNS-250, Food Coupon Accountability Report

AGENCY: Food and Nutrition Service, USDA.

ACTION: Notice.

SUMMARY: In accordance with the Paperwork Reduction Act of 1995, this notice invites the general public and other public agencies to comment on proposed information collection contained in form FNS-250, Food Coupon Accountability Report.

DATES: Written comments must be submitted on or before June 18, 2001.

ADDRESSES: Send comments and requests for copies of this information collection to: Jeffrey N. Cohen, Branch Chief, Electronic Benefit Transfer Branch, Benefit Redemption Division, Food and Nutrition Service, U.S. Department of Agriculture, 3101 Park Center Drive, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

FOR FURTHER INFORMATION CONTACT: Jeffrey N. Cohen, (703) 305-2523.

SUPPLEMENTARY INFORMATION: Title: Food Coupon Accountability Report.

OMB Number: 0584-0009.

Form Number: FNS-250.

Expiration Date: 06/30/2001.

Type of Request: Revision of a currently approved collection.

Abstract: Section 7(d) of the Food Stamp Act of 1977, as amended, (7 U.S.C. 2016(d)) and 7 CFR 274.4(b)(1) of the Food Stamp Program regulations require that State agencies report on the coupon inventories of coupon issuers, bulk storage points, and claims collection points. The reporting is done on Form FNS-250, Food Coupon Accountability Report. These reports must be submitted to the Food and Nutrition Service monthly. State agencies must review the reports for accuracy, completeness and reasonableness. Supporting documentation must be included when appropriate and the reports must reach FNS no later than 90 days following the end of each report month. The FNS-250 report reflects beginning inventories, end-of-month inventories, receipt of coupons, transfers of coupons, coupons returned to inventory, and credits.

Affected Public: State and local government employees or contractors.

Estimated Number of Respondents: 475.

Estimated Number of Responses per respondent: 12.

Estimated Time per Response: 3 hours.

Estimated Total Annual Burden: 17,100 hours annually.

Dated: April 10, 2001.
Alberta C. Frost,
Acting Administrator.

[FR Doc. 01-9501 Filed 4-16-01; 8:45 am]

BILLING CODE 3410-30-P